DEPARTMENT OF TRANSPORTATION

Coast Guard

33 CFR Part 100

[CGD11-01-004]

RIN 2115-AE46

Special Local Regulations: San Diego Crew Classic

AGENCY: Coast Guard, DOT.

ACTION: Notice of Implementation.

SUMMARY: This document implements 33 CFR 100.1101, Southern California annual marine events, for the San Diego Crew Classic which will be held on April 7, 2001 and April 8, 2001. The race will consist of eight oared shells, 60 feet long for club and intercollegiate rowing competitions, with approximately 3,000 participants. These regulations will be effective on Mission Bay, that portion bounded by Enchanted Cove, Fiesta Island, Pacific Passage and DeAnza Point. These Special Local Regulations are necessary to control vessel traffic in the regulated areas during the event to ensure the safety of participants and spectators.

Pursuant to 33 CFR 100.1101(b)(3), Commanding Officer, Coast Guard Activities San Diego, is designated Patrol Commander for this event; he has the authority to delegate this responsibility to any commissioned, warrant, or petty officer of the Coast Guard.

EFFECTIVE DATES: 33 CFR 100.1101 is effective from 6 a.m. (PST) until 6 p.m. (PST) on April 7, 2001, and from 6 a.m. (PDT) until 6 p.m. (PDT) on April 8, 2001. If the event concludes prior to the scheduled termination date and/or time, the Coast Guard will cease enforcement of this section and will announce that fact via Broadcast Notice to Mariners.

FOR FURTHER INFORMATION CONTACT: Petty Officer Nicole Lavorgna, U.S. Coast Guard MSO San Diego, San Diego, California; Telephone: (619) 683-6495.

SUPPLEMENTARY INFORMATION: These Special Local Regulations permit Coast Guard control of vessel traffic in order to ensure the safety of spectator and participant vessels. In accordance with the regulations in 33 CFR 100.1101, no persons or vessels shall block, anchor, or loiter in the regulated area; nor shall any person or vessel transit through the regulated area, or otherwise impeded the transit of participant or official patrol vessels in the regulated area, unless cleared for such entry by or through an official patrol vessel acting on behalf of the Patrol Commander.

Dated: March 29, 2001.
E.R. Riutta,
Vice Admiral, U.S. Coast Guard, Commander, Eleventh Coast Guard District.

[FR Doc. 01-8448 Filed 4-5-01; 8:45 am]

BILLING CODE 4910-15-M